DEPARTMENT OF ENERGY

Federal Energy Regulatory Commission

Combined Notice of Filings #1

Take notice that the Commission received the following electric corporate filings:

Docket Numbers: EC15-206-000.

Applicants: South Central MCN, LLC.

Description: Response to Request for Further Information of South Central MCN LLC.

Filed Date: 1/20/16.

Accession Number: 20160120-5142.

Comments Due: 5 p.m. ET 2/3/16.

Take notice that the Commission received the following electric rate filings:

Docket Numbers: ER12-2542-008.

Applicants: Prairie Rose Wind, LLC.

Description: Compliance filing: Prairie Rose Wind, LLC MBR Tariff to be effective 10/1/2012.

Filed Date: 1/22/16.

Accession Number: 20160122-5002.

Comments Due: 5 p.m. ET 2/12/16.

Docket Numbers: ER14-2752-004.

Applicants: Xcel Energy Transmission Development Company, LLC.

Description: Second Formula Rate Compliance Filing of Xcel Energy Transmission Development Company, LLC.

Filed Date: 1/21/16.

Accession Number: 20160121-5265.

Comments Due: 5 p.m. ET 2/11/16.

Docket Numbers: ER15-1405-002.

Applicants: The Empire District Electric Company.

Description: Compliance filing: Supplement to Compliance Filing re Reactive to be effective 6/1/2015.

Filed Date: 1/21/16.

Accession Number: 20160121-5225.

Comments Due: 5 p.m. ET 2/11/16.

Docket Numbers: ER16-759-000.

Applicants: Innovative Solar 43, LLC.

Description: Innovative Solar 43, LLC submits tariff filing per 35.12: Innovative Solar 43, LLC MBR Tariff to be effective 2/20/2016.

Filed Date: 1/21/16.

Accession Number: 20160121-5261.

Comments Due: 5 p.m. ET 2/11/16.

Docket Numbers: ER16-760-000.

Applicants: New England Power Company.

Description: § 205(d) Rate Filing: New England Power Filing of LGIA with Wheelabrator Saugus, Inc. to be effective 1/1/2016.

Filed Date: 1/21/16.

Accession Number: 20160121-5238.

Comments Due: 5 p.m. ET 2/11/16.

Docket Numbers: ER16-761-000.

Applicants: Midcontinent Independent System Operator, Inc.

Description: § 205(d) Rate Filing: 2016-01-22_SA 2763 Termination of ATCLLC-Escanaba FCA to be effective 1/23/2016.

Filed Date: 1/22/16.

Accession Number: 20160122-5033.

Comments Due: 5 p.m. ET 2/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 22, 2016.
Nathaniel J. Davis, Sr.,
Deputy Secretary.

[FR Doc. 2016-01801 Filed 2-1-16; 8:45 am]

BILLING CODE 6717-01-P